NATIONAL CREDIT UNION ADMINISTRATION

Agency Information Collection Activities: Submission to OMB for Revision to a Currently Approved Information Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. chapter 35). This information collection is published to obtain comments from the public.

DATES: Comments will be accepted until November 7, 2011.

ADDRESSES: Interested parties are invited to submit written comments to NCUA Contact or OMB Reviewer listed below:

NCUA Contact: Tracy Sumpter, National Credit Union Administration, 1775 Duke Street, Alexandria, Virginia 22314-3428, Fax No. 703-837-2861. E-mail: OCIOMail@ncua.gov.

OMB Reviewer: Shagufta Ahmed, Office of Management and Budget, Room 10226, New Executive Office Building, Washington, DC 20503.

FOR FURTHER INFORMATION CONTACT: Requests for additional information or a copy of the information collection request should be directed to Tracy Sumpter at the National Credit Union Administration, 1775 Duke Street, Alexandria, VA 22314-3428, or at (703) 518-6444.

SUPPLEMENTARY INFORMATION: Proposal for the following collection of information:

OMB Number: 3133-0004.

Form Number: NCUA 5300.

Type of Review: Revision to the currently approved collection.

Title: Quarterly Call Report.

Description: The financial and statistical information is essential to NCUA in carrying out its responsibility for the supervision of federally insured credit unions. The information also enables NCUA to monitor all federally insured credit unions whose share accounts are insured by the National Credit Union Share Insurance Fund (NCUSIF).

Respondents: All Credit Unions.

Estimated No. of Respondents/Recordkeepers: 7,264.

Estimated Burden Hours per Response: 6.6 hours.

Frequency of Response: Quarterly.

Estimated Total Annual Burden Hours: 191,770.

Estimated Total Annual Cost: $5,628,450.

By the National Credit Union Administration Board on October 3, 2011.
Mary Rupp,
Secretary of the Board.

[FR Doc. 2011-26060 Filed 10-6-11; 8:45 am]

BILLING CODE 7535-01-P